DEPARTMENT OF TRANSPORTATION

Federal Aviation Administration

14 CFR Part 39

[Docket No. FAA-2008-0018; Directorate Identifier 2007-NM-145-AD; Amendment 39-15842; AD 2009-06-06]

RIN 2120-AA64

Airworthiness Directives; Airbus Model A310 Series Airplanes and Model A300-600 Series Airplanes

AGENCY: Federal Aviation Administration (FAA), Department of Transportation (DOT).

ACTION: Final rule.

SUMMARY: This airworthiness directive (AD) supersedes two existing ADs. One AD applies to certain Airbus Model A310-200 and -300 series airplanes. That AD currently requires repetitive inspections for cracking of the flap transmission shafts, and replacement of the transmission shafts if necessary. That AD also provides an optional terminating action for the repetitive inspections. The other existing AD applies to all Airbus Model A300 B4-600, B4-600R, and F4-600R series airplanes, and Model C4-605R Variant F airplanes (collectively called A300-600 series airplanes); and Model A310-200 and -300 series airplanes. That AD currently requires a one-time inspection of the trimmable horizontal stabilizer actuator (THSA), corrective actions if necessary, and follow-on repetitive tasks. This new AD also requires revising the Airworthiness Limitations Section of the Instructions for Continued Airworthiness to incorporate new limitations and maintenance tasks for aging systems maintenance. This AD results from the manufacturer's determination that life limitations and maintenance tasks are necessary to ensure continued operational safety of the affected airplanes. We are issuing this AD to prevent reduced structural integrity of these airplanes due to the failure of system components.

DATES: This AD becomes effective April 28, 2009.

The Director of the Federal Register approved the incorporation by reference of certain publications listed in the AD as of April 28, 2009.

On August 29, 2006 (71 FR 42021, July 25, 2006), the Director of the Federal Register approved the incorporation by reference of Airbus Service Bulletin A300-27-6044, Revision 04, dated September 10, 2001; and Airbus Service Bulletin A310-27-2089, Revision 02, dated June 28, 2001.

On June 20, 2006 (71 FR 28254, May 16, 2006), the Director of the Federal Register approved the incorporation by reference of Airbus Service Bulletin A310-27-2092, Revision 02, dated April 11, 2005; and Airbus Service Bulletin A310-27-2095, dated March 29, 2000.

ADDRESSES: For Airbus service information identified in this AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com. For TRW Aeronautical Systems service information identified in this AD, contact TRW Systèmes Aéronautiques Civils SAS, Product Support Department, 7-9 Avenue de l'Eguillette, Saint Ouen l'Aumone BP 7186, 95056 Cergy-Pontoise Cedex France, telephone +33 1 34 32 63 00; fax +33 1 34 32 63 10.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Thomas Stafford, Aerospace Engineer, International Branch, ANM-116, Transport Airplane Directorate, FAA, 1601 Lind Avenue, SW., Renton, Washington 98057-3356; telephone (425) 227-1622; fax (425) 227-1149.

SUPPLEMENTARY INFORMATION:

Discussion

The FAA issued a supplemental notice of proposed rulemaking (NPRM) to amend 14 CFR part 39 to include an AD that supersedes two existing ADs: AD 2006-10-11, amendment 39-14595 (71 FR 28254, May 16, 2006); and AD 2006-15-10, amendment 39-14690 (71 FR 42021, July 25, 2006). AD 2006-10-11 applies to certain Airbus Model A310-200 and -300 series airplanes and requires repetitive inspections for cracking of the flap transmission shafts, and replacing the transmission shafts if necessary. That existing AD also provides an optional terminating action for the repetitive inspections. AD 2006-15-10 applies to all Airbus Model A310 and A300-600 series airplanes and requires a one-time inspection of the trimmable horizontal stabilizer actuator (THSA), corrective actions if necessary, and follow-on repetitive tasks.

That supplemental NPRM was published in the Federal Register on September 26, 2008 (73 FR 55781). That supplemental NPRM proposed to continue to require the actions required by the two existing ADs. That supplemental NPRM also proposed to require revising the Airworthiness Limitations Section of the Instructions for Continued Airworthiness to incorporate new limitations and maintenance tasks for aging systems maintenance. In addition, that supplemental NPRM proposed to revise the original NPRM by reducing the initial compliance times.

Comments

We provided the public the opportunity to participate in the development of this AD. No comments have been received on the supplemental NPRM or on the determination of the cost to the public.

Explanation of Changes

We have removed the “Service Bulletin References” paragraph in the “RESTATEMENT OF REQUIREMENTS OF AD 2006-15-10” section of this AD. Instead, we refer to the required service documents in the individual paragraphs of this AD.

Conclusion

We have carefully reviewed the available data and determined that air safety and the public interest require adopting the AD with the changes described previously. We also determined that these changes will not increase the economic burden on any operator or increase the scope of the AD.

Costs of Compliance

The following table provides the estimated costs for U.S. operators to comply with this AD.

Estimated Costs
Action | Work hours | Average labor rate per hour | Cost per airplane | Number of U.S.- registered airplanes | Fleet cost
Inspection (required by AD 2006-10-11) | 1 | $80 | $80 per inspection cycle | 59 | $4,720 per inspection cycle.
Inspection (required by AD 2006-15-10) | 3 | 80 | $240 | 213 | $51,120.
Repetitive follow-on tasks (required by AD 2006-15-10) | 12 | 80 | $960 per inspection cycle | 213 | $204,480 per inspection cycle.
ALS revision (new action) | 1 | 80 | $80 | 213 | $17,040.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14595 (71 FR 28254, May 16, 2006), and amendment 39-14690 (71 FR 42021, July 25, 2006), and by adding the following new airworthiness directive (AD):

2009-06-06 Airbus: Amendment 39-15842. Docket No. FAA-2008-0018; Directorate Identifier 2007-NM-145-AD.

Effective Date

(a) This AD becomes effective April 28, 2009.

Affected ADs

(b) This AD supersedes AD 2006-10-11 and AD 2006-15-10.

Applicability

(c) This AD applies to all Airbus Model A310 series airplanes; and Model A300-600 series airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (q) of this AD. The request should include a description of changes to the required inspections that will ensure the continued operational safety of the airplane.

Unsafe Condition

(d) This AD results from the manufacturer's determination that life limitations and maintenance tasks are necessary to ensure continued operational safety of the affected airplanes. We are issuing this AD to prevent reduced structural integrity of these airplanes due to the failure of system components.

Compliance

(e) You are responsible for having the actions required by this AD performed within the compliance times specified, unless the actions have already been done.

Restatement of Requirements of AD 2006-10-11

Inspection and Corrective Action

(f) For Airbus Model A310-203, -204, -221, -222, -304, -322, -324, and -325 airplanes, except for airplanes on which Airbus Modification 12247 has been embodied in production: At the earlier of the compliance times specified in paragraph (f)(1) or (f)(2) of this AD, perform a detailed inspection for stress corrosion cracking of the flight transmission shafts located between the power control unit (PCU) and the torque limiters in accordance with the Accomplishment Instructions of Airbus Service Bulletin A310-27-2092, Revision 02, dated April 11, 2005. Thereafter, repeat the inspections as required by paragraph (g) of this AD. Before further flight, replace any cracked transmission shaft discovered during any inspection required by this AD with a new or reconditioned shaft, in accordance with the Accomplishment Instructions of Airbus Service Bulletin A310-27-2095, dated March 29, 2000. Doing an inspection in accordance with paragraph (n) or (o) of this AD terminates the requirements of this paragraph.

(1) Within 2,000 flight hours after the last flap asymmetry protection test performed in accordance with Airbus A310 Maintenance Planning Document (MPD) Task 275600-01-1.

(2) Within 8,000 flight cycles after the last flap asymmetry protection test performed in accordance with Airbus A310 MPD Task 275600-02-1 or 800 flight cycles after June 20, 2006 (the effective date of AD 2006-10-11), whichever comes later.

Note 2: Airbus Service Bulletin A310-27-2092, Revision 02, dated April 11, 2005, refers to Lucas Liebherr Service Bulletin 551A-27-624, Revision 1, dated August 18, 2000, as a source of service information for accomplishing the inspections.

Note 3: Airbus Service Bulletin A310-27-2092, Revision 02, dated April 11, 2005, refers to Airbus Service Bulletin A310-27-2095, dated March 29, 2000, as a source of information for replacing the flap transmission shafts.

Note 4: Airbus Service Bulletin A310-27-2095, dated March 29, 2000, refers to Lucas Liebherr Service Bulletin 551A-27-M551-05, dated January 12, 2000, as an additional source of information for replacing the flap transmission shafts.

Repetitive Inspections

(g) Repeat the inspection required by paragraph (f) of this AD at the applicable times specified in paragraphs (g)(1), (g)(2), and (g)(3) of this AD. Doing an inspection in accordance with paragraph (n) or (o) of this AD terminates the requirements of this paragraph.

(1) Before further flight after any occurrence of jamming of the flap transmission system.

(2) At intervals not to exceed 2,000 flight hours after each flap asymmetry protection test performed in accordance with Airbus A310 MPD Task 275600-01-1.

(3) At intervals not to exceed 8,000 flight cycles after each flap asymmetry protection test performed in accordance with Airbus A310 MPD Task 275600-02-1.

Optional Terminating Action

(h) Replacing any flap transmission shaft with a new or reconditioned transmission shaft in accordance with the Accomplishment Instructions of Airbus Service Bulletin A310-27-2095, dated March 29, 2000, ends the inspections required by paragraphs (f) and (g) of this AD for that transmission shaft only.

Actions Performed Using Previously Issued Service Information

(i) Actions performed in accordance with Airbus Service Bulletin A310-27-2092, dated April 9, 1999; or Revision 01, dated December 11, 2001; are considered acceptable for compliance with the corresponding requirements of paragraphs (f) and (g) of this AD.

No Reporting

(j) Although Airbus Service Bulletin A310-27-2092, Revision 02, dated April 11, 2005, specifies to submit certain information to the manufacturer, this AD does not include that requirement.

Restatement of Requirements of AD 2006-15-10

Inspection

(k) At the applicable time specified in paragraph (k)(1) or (k)(2) of this AD, do a detailed inspection of specified components of the trimmable horizontal stabilizer actuator (THSA) in accordance with paragraph 1.E.(2)(a) and the Accomplishment Instructions of the applicable service bulletin as identified in Table 1 of this AD. Repair any discrepancy before further flight in accordance with TRW Aeronautical Systems Horizontal Stabilizer Actuator 47142 Series Component Maintenance Manual with Illustrated Parts List 27-44-13, Revision 6, dated September 14, 2001; or a method approved by the Manager, International Branch, ANM-116, Transport Airplane Directorate, FAA, or the European Aviation Safety Agency (EASA) (or its delegated agent). Doing an inspection in accordance with paragraph (n) or (o) of this AD terminates the requirements of this paragraph.

(1) If the flight hours accumulated on the THSA can be positively determined: Inspect at the earlier of:

(i) Before the accumulation of 47,000 total flight hours on the THSA, or within 600 flight hours after August 29, 2006 (the effective date of AD 2006-15-10), whichever occurs later.

(ii) Within 25 years since the THSA was new or within 600 flight hours after August 29, 2006, whichever occurs later.

(2) If the flight hours accumulated on the THSA cannot be positively determined: Inspect before the accumulation of 47,000 total flight hours on the airplane, or within 600 flight hours after August 29, 2006, whichever occurs later.

Table 1—Service Bulletins for the Requirements of Paragraph (k) of This AD
Required Airbus Service Bulletin | Approved Airbus Service Bulletin version for actions done before the effective date of this AD | Airbus airplane model
Airbus Service Bulletin A300-27-6044, Revision 04, dated September 10, 2001; or Airbus Mandatory Service Bulletin A300-27-6044, Revision 05, dated August 29, 2006 | A300-27-6044, Revision 02, dated August 26, 2000; or Revision 03, dated June 28, 2001 | A300 B4-601, B4-603, B4-620, and B4-622. A300 B4-605R and B4-622R. A300 B4-605R and B4-622R. A300 C4-605R Variant F.
Airbus Service Bulletin A310-27-2089, Revision 02, dated June 28, 2001; or Airbus Mandatory Service Bulletin A310-27-2089, Revision 03, dated August 29, 2006 |  | A310-203, -204, -221, and -222. A310-304, -322, -324, and -325.

Note 5: The service bulletins specified in Table 1 of this AD refer to Goodrich Actuation Systems Service Bulletin 47142-27-11, Revision 3, dated April 25, 2005, as an additional source of service information for the required actions.

Note 6: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Follow-on Repetitive Tasks

(l) After the inspection required by paragraph (k) of this AD: Do the repetitive tasks in accordance with the Accomplishment Instructions and at the times specified in paragraph 1.E.(2)(b) of the applicable service bulletin identified in Table 2 of this AD, except as provided by paragraph (m) of this AD. The repetitive tasks are valid only until the THSA operational life exceeds 65,000 flight hours, 40,000 flight cycles, or 25 years, whichever occurs first. Before the THSA is operated beyond these extended life goals, it must be replaced with a new or serviceable THSA, except as required by paragraph (m) of this AD. Doing an inspection in accordance with paragraph (n) or (o) of this AD terminates the requirements of this paragraph.

Table 2—Service Bulletins for the Requirements of Paragraph (l) of This AD
Required Airbus Service Bulletin | Approved Airbus Service Bulletin version for actions done before the effective date of this AD | Airbus airplane model
Airbus Service Bulletin A300-27-6044, Revision 04, dated September 10, 2001; or Airbus Mandatory Service Bulletin A300-27-6044, Revision 05, dated August 29, 2006 | A300-27-6044, Revision 02, dated August 26, 2000; or Revision 03, dated June 28, 2001 | A300 B4-601, B4-603, B4-620, and B4-622. A300 B4-605R and B4-622R. A300 B4-605R and B4-622R. A300 C4-605R Variant F.
Airbus Service Bulletin A310-27-2089, Revision 02, dated June 28, 2001; or Airbus Mandatory Service Bulletin A310-27-2089, Revision 03, dated August 29, 2006 | A310-27-2089, Revision 01, dated August 25, 2000 | A310-203, -204, -221, and -222. A310-304, -322, -324, and -325.

Note 7: For additional information on the THSA life limits, refer to Airbus Operators Information Telex (OIT) SE 999.0074/05/BB, dated August 3, 2005.

THSA Replacement

(m) For any THSA, whether discrepant or not, that is replaced with a new or serviceable THSA: Within 47,000 flight hours or 25 years, whichever occurs first, after the THSA is replaced, do the applicable tasks specified in paragraph 1.E.(2)(a) and the Accomplishment Instructions of the applicable service bulletin identified in Table 3. Thereafter repeat the tasks within the repetitive intervals specified in paragraph 1.E.(2)(b) of the applicable service bulletin. Doing the corresponding tasks in accordance with paragraph (n) or (o) of this AD terminates the requirements of this paragraph.

Table 3—Service Bulletins for the Requirements of Paragraph (m) of This AD
Required Airbus Service Bulletin | Approved Airbus Service Bulletin version for actions done before the effective date of this AD | Airbus airplane model
Airbus Service Bulletin A300-27-6044, Revision 04, dated September 10, 2001; or Airbus Mandatory Service Bulletin A300-27-6044, Revision 05, dated August 29, 2006 | A300-27-6044, Revision 02, dated August 26, 2000; or Revision 03, dated June 28, 2001 | A300 B4-601, B4-603, B4-620, and B4-622. A300 B4-605R and B4-622R. A300 F4-605R and F4-622R. A300 C4-605R Variant F.
Airbus Service Bulletin A310-27-2089, Revision 02, dated June 28, 2001; or Airbus Mandatory Service Bulletin A310-27-2089, Revision 03, dated August 29, 2006 | A310-27-2089, Revision 01, dated August 25, 2000 | A310-203, -204, -221, and -222. A310-304, -322, -324, and -325.

New Requirements of This AD

Revise Airworthiness Limitations Section (ALS) To Incorporate Limitations and Maintenance Tasks for Aging Systems Maintenance

(n) Within 3 months after the effective date of this AD, revise the ALS of the Instructions for Continued Airworthiness (ICA) to incorporate Airbus A310 ALS Part 4—Ageing Systems Maintenance, Revision 01, dated December 21, 2006 (for Model A310 series airplanes); or Airbus A300-600 ALS Part 4—Ageing Systems Maintenance, Revision 01, dated December 21, 2006 (for Model A300-600 series airplanes). For all tasks identified in Airbus A310 ALS Part 4—Ageing Systems Maintenance, Revision 01, dated December 21, 2006; and Airbus A300-600 ALS Part 4—Ageing Systems Maintenance, Revision 01, dated December 21, 2006; do the tasks at the later of the times specified in paragraphs (n)(1) and (n)(2) of this AD, as applicable, except as provided by paragraph (o) of this AD. The repetitive inspections must be accomplished thereafter at the interval specified in Airbus A310 ALS Part 4—Ageing Systems Maintenance, Revision 01, dated December 21, 2006; or Airbus A300-600 ALS Part 4—Ageing Systems Maintenance, Revision 01, dated December 21, 2006; as applicable. Doing an inspection required by this paragraph terminates the corresponding inspection required by paragraph (f), (g), (k), (l), or (m) of this AD.

(1) At the initial compliance times (thresholds) specified in Airbus A310 ALS Part 4—Ageing Systems Maintenance, Revision 01, dated December 21, 2006; or Airbus A300-600 ALS Part 4—Ageing Systems Maintenance, Revision 01, dated December 21, 2006; as applicable; with the compliance times starting from the later of the times specified in paragraphs (n)(1)(i) and (n)(1)(ii) of this AD.

(i) Since first flight of the airplane.

(ii) Since the applicable part was new or refurbished if the part's life (in flight hours, flight cycles, landings, or calendar time, as applicable) can be conclusively determined.

(2) Within 3 months after doing the revision of the ALS of the ICA required by paragraph (o) of this AD.

Note 8: For additional information on the THSA life limits, refer to Airbus OIT SE 999.0074/05/BB, dated August 3, 2005.

Note 9: For additional information on the THSA life limits and calculation method for unknown history of parts, refer to Airbus OIT SE 999.0008/07/LB, dated January 16, 2007; and Airbus Service Information Letter 05-008, Revision 01, dated February 21, 2007.

(o) For airplanes on which any life limitation/maintenance task has been complied with in accordance with the requirements of paragraph (f), (g), (k), (l), or (m) of this AD (e.g., AD 2006-10-11 or AD 2006-15-10), the last accomplishment of each limitation/task must be retained as a starting point for the accomplishment of each corresponding limitation/task interval now introduced in Airbus A310 ALS Part 4—Ageing Systems Maintenance, Revision 01, dated December 21, 2006; and Airbus A300-600 ALS Part 4—Ageing Systems Maintenance, Revision 01, dated December 21, 2006; as applicable. Doing an inspection required by this paragraph terminates the corresponding inspection required by paragraph (f), (g), (k), (l), or (m) of this AD.

(p) Except as provided by paragraph (q) of this AD: After accomplishing the actions specified in paragraphs (n) and (o) of this AD, no alternative inspection, inspection intervals, or limitations may be used.

Alternative Methods of Compliance (AMOCs)

(q)(1) The Manager, International Branch, ANM-116, Transport Airplane Directorate, FAA, has the authority to approve AMOCs for this AD, if requested using the procedures found in 14 CFR 39.19. Send information to ATTN: Thomas Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) AMOCs approved previously in accordance with AD 2006-10-11 are not approved as AMOCs with this AD.

(3) AMOCs approved previously in accordance with AD 2006-15-10 are not approved as AMOCs with this AD.

Related Information

(r) EASA airworthiness directive 2007-0092, dated April 10, 2007, also addresses the subject of this AD.

Material Incorporated by Reference

(s) You must use the service information identified in Table 4 of this AD, as applicable, to do the actions required by this AD, unless the AD specifies otherwise. If you accomplish the optional actions specified by this AD, you must use Airbus Service Bulletin A310-27-2095, dated March 29, 2000, to perform those actions, unless the AD specifies otherwise.

Table 4—Material Incorporated by Reference for the Actions Required by This AD
Document | Revision | Date
Airbus A300-600 Airworthiness Limitations Section (ALS) Part 4— Ageing Systems Maintenance | 01 | December 21, 2006.
Airbus A310 Airworthiness Limitations Section (ALS) Part 4—Ageing Systems Maintenance | 01 | December 21, 2006.
Airbus Mandatory Service Bulletin A300-27-6044 | 05 | August 29, 2006.
Airbus Mandatory Service Bulletin A310-27-2089 | 03 | August 29, 2006.
Airbus Service Bulletin A300-27-6044 | 04 | September 10, 2001.
Airbus Service Bulletin A310-27-2089 | 02 | June 28, 2001.
Airbus Service Bulletin A310-27-2092 | 02 | April 11, 2005.
Airbus Service Bulletin A310-27-2095 | Original | March 29, 2000.
TRW Aeronautical Systems Horizontal Stabilizer Actuator 47142 Series Component Maintenance Manual with Illustrated Parts List 27-44-13 | 6 | September 14, 2001.

(TRW Aeronautical Systems Horizontal Stabilizer Actuator 47142 Series Component Maintenance Manual with Illustrated Parts List 27-44-13 contains the following discrepancies: The revision level of the document is only specified on the Letter of Transmittal; the Letter of Transmittal is not specified in the List of Effective Pages; and the List of Effective Pages refers to page 748a as 748b.)

(1) The Director of the Federal Register approved the incorporation by reference of the service information contained in Table 5 of this AD under 5 U.S.C. 552(a) and 1 CFR part 51.

Table 5—New Material Incorporated by Reference
Document | Revision | Date
Airbus A300-600 Airworthiness Limitations Section (ALS) Part 4—Ageing Systems Maintenance | 01 | December 21, 2006.
Airbus A310 Airworthiness Limitations Section (ALS) Part 4—Ageing Systems Maintenance | 01 | December 21, 2006.
Airbus Mandatory Service Bulletin A300-27-6044 | 05 | August 29, 2006.
Airbus Mandatory Service Bulletin A310-27-2089 | 03 | August 29, 2006.
TRW Aeronautical Systems Horizontal Stabilizer Actuator 47142 Series Component Maintenance Manual with Illustrated Parts List 27-44-13 | Original | September 14, 2001.

(2) The Director of the Federal Register previously approved the incorporation by reference of the service information contained in Table 6 of this AD on August 29, 2006 (71 FR 42021, July 25, 2006).

Table 6—Material Previously Incorporated by Reference in AD 2006-15-10
Document | Revision | Date
Airbus Service Bulletin A300-27-6044 | 04 | September 10, 2001.
Airbus Service Bulletin A310-27-2089 | 02 | June 28, 2001.

(3) The Director of the Federal Register previously approved the incorporation by reference of the service information contained in Table 7 of this AD on June 20, 2006 (71 FR 28254, May 16, 2006).

Table 7—Material Previously Incorporated by Reference in AD 2006-10-11
Document | Revision | Date
Airbus Service Bulletin A310-27-2092 | 02 | April 11, 2005.
Airbus Service Bulletin A310-27-2095 | Original | March 29, 2000.

(4) For Airbus service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(5) For TRW Aeronautical Systems service information identified in this AD, contact TRW Systémes Aeacute;ronautiques Civils SAS, Product Support Department, 7-9 Avenue de l'Eguillette, Saint Ouen l'Aumone BP 7186, 95056 Cergy-Pontoise Cedex France, telephone +33 1 34 32 63 00; fax +33 1 34 32 63 10.

(6) You may review copies of the service information at the FAA, Transport Airplane Directorate, 1601 Lind Avenue, SW., Renton, Washington. For information on the availability of this material at the FAA, call 425-227-1221 or 425-227-1152.

(7) You may also review copies of the service information incorporated by reference at the National Archives and Records Administration (NARA). For information on the availability of this material at NARA, call 202-741-6030, or go to: http://www.archives.gov/federal_register/code_of_federal_regulations/ibr_locations.html.

Issued in Renton, Washington, on February 27, 2009.
Ali Bahrami,
Manager, Transport Airplane Directorate, Aircraft Certification Service.

[FR Doc. E9-5969 Filed 3-23-09; 8:45 am]

BILLING CODE 4910-13-P